DEPARTMENT OF TRANSPORTATION

49 CFR Part 1

[Docket No. OST-2006-24108]

RIN 9991-AA48

Organization and Delegation of Powers and Duties; National Highway Traffic Safety Administrator

AGENCY: Office of the Secretary of Transportation.

ACTION: Final rule.

SUMMARY: The Secretary of Transportation (Secretary) is delegating to the National Highway Traffic Safety Administrator his authority to engage in activities with States and State legislators to consider proposals related to safety belt use laws.

DATES: Effective Date: This final rule is effective on March 8, 2006.

FOR FURTHER INFORMATION CONTACT: Stan Feldman, Associate Chief Counsel, Office of Chief Counsel, National Highway Traffic Safety Administration, Room 5219, 400 Seventh Street, SW., Washington, DC 20590, Telephone: (202) 366-9511.

SUPPLEMENTARY INFORMATION: The Secretary of Transportation is delegating to the National Highway Traffic Safety Administrator his authority under 23 U.S.C. 406(e)(3), as added by section 2005(a) of SAFETEA-LU, Public Law 109-59, to engage in activities with States and State legislators to consider proposals related to safety belt use laws. The National Highway Traffic Safety Administrator may further delegate this authority, including to other modal Administrators within the Department of Transportation.

This amendment adds 49 CFR 1.50(o) to reflect the Secretary of Transportation's delegation of this authority. Since this amendment relates to departmental organization, procedure and practice, notice and comment are unnecessary under 5 U.S.C. 553(b). Further, since the amendment expedites the National Highway Traffic Safety Administrator's ability to meet the statutory intent of the applicable law and regulations covered by this delegation, the Secretary finds good cause under 5 U.S.C. 553(d)(3) for the final rule to be effective on the date of publication in the Federal Register.

Regulatory Analyses and Notices

A. Executive Order 12866 and DOT Regulatory Policies and Procedures

The final rule is not considered a significant regulatory action under Executive Order 12866 and DOT Regulatory Policies and Procedures of the Department of Transportation (44 FR 11034). There are no costs associated with this rule.

B. Executive Order 13132

This action has been analyzed in accordance with the principles and criteria contained in Executive Order 13132, dated August 4, 1999. This final rule does not have a substantial direct effect on, or sufficient federalism implications for, the States, nor would it limit the policymaking discretion of the States. Therefore, the consultation and funding requirements do not apply.

C. Executive Order 13084

This final rule has been analyzed in accordance with the principles and criteria contained in Executive Order 13084 (“Consultation and Coordination with Indian Tribal Governments”). Because this final rule does not significantly or uniquely affect the communities of the Indian tribal governments and does not impose substantial direct compliance costs, the funding and consultation requirements of Executive Order 13084 do not apply.

D. Regulatory Flexibility Act

The Regulatory Flexibility Act (5 U.S.C. 601 et seq.) requires an agency to review regulations to assess their impact on small entities unless the agency determines that a rule is not expected to have a significant impact on a substantial number of small entities. I hereby certify this final rule, which amends the CFR to reflect a modification of authority from the Secretary, will not have a significant economic impact on a substantial number of small businesses.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects in 49 CFR Part 1

Authority delegations (Government agencies), Organization and functions (Government agencies).

In consideration of the foregoing, part 1 of title 49, Code of Federal Regulations, is amended, effective upon publication, to read as follows:

PART 1—[AMENDED]

1. The authority citation for part 1 is revised to read as follows:

Authority: 49 U.S.C. 322; 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub. L. 107-295, 116 Stat 2065; Pub. L. 107-296, 116 Stat. 2135; 41 U.S.C. 414; Pub. L. 108-426, 118 Stat. 2423; Pub. L. 109-59, 119 Stat. 1144.

2. Section 1.50 is amended by adding paragraph (o) to read as follows:

§ 1.50 Delegations to National Highway Traffic Safety Administrator.

* * * * *

(o) Carry out the functions and exercise the authority vested in the Secretary under 23 U.S.C. 406 (e)(3), as added by section 2005(a) of SAFETEA-LU, Public Law 109-59, to engage in activities with States and State legislators to consider proposals related to safety belt use laws. The National Highway Traffic Safety Administrator may further delegate this authority, including to other modal Administrators within the Department of Transportation.

Issued on the 2nd day of March, 2006, at Washington, DC.
Norman Y. Mineta,
Secretary of Transportation.

[FR Doc. 06-2176 Filed 3-7-06; 8:45 am]

BILLING CODE 4910-62-P